DEPARTMENT OF TRANSPORTATION

Federal Aviation Administration

14 CFR Part 39

[Docket No. 2002-NE-16-AD; Amendment 39-12952; AD 2002-23-08]

RIN 2120-AA64

Airworthiness Directives; Rolls-Royce plc. RB211-535 Turbofan Engines; Correction

AGENCY: Federal Aviation Administration, DOT.

ACTION: Final rule; request for comments; correction

SUMMARY: This document makes a correction to Airworthiness Directive (AD) 2002-23-08, applicable to Rolls-Royce plc. (RR) models RB211-535E4-37, RB211-535E4-B-37, and RB211-535E4-B-75 turbofan engines. AD 2002-23-08 was published in the Federal Register on November 29, 2002 (67 FR 71094). In the DATES section of the preamble, two dates are incorrect. This document corrects those dates. In all other respects, the original document remains the same.

EFFECTIVE DATE: December 16, 2002.

FOR FURTHER INFORMATION CONTACT: Ian Dargin, Aerospace Engineer, Engine Certification Office, FAA, Engine and Propeller Directorate, 12 New England Executive Park, Burlington, MA 01803-5299; telephone (781) 238-7178; fax (781) 238-7199.

SUPPLEMENTARY INFORMATION: A final rule; request for comments airworthiness directive FR Doc. 02-29001, applicable to models RB211-535E4-37, RB211-535E4-B-37, and RB211-535E4-B-75 turbofan engines, was published in the Federal Register on November 29, 2002 (67 FR 71094). The following correction is needed:

On page 71094, in the second column, second paragraph, in the DATES section, first line, remove the phrase “Effective December 30, 2002.” and add in its place “Effective December 16, 2002.” Also, in the fifth line, remove the phrase “as of December 30, 2002.” and add in its place “as of December 16, 2002.”

Issued in Burlington, MA, on December 5, 2002.
Francis A. Favara,
Acting Manager, Engine and Propeller Directorate, Aircraft Certification Service.

[FR Doc. 02-31395 Filed 12-12-02; 8:45 am]

BILLING CODE 4910-13-P